DEPARTMENT OF DEFENSE

Office of the Secretary

[Docket ID: DOD-2010-OS-0183]

Privacy Act of 1974; System of Records

AGENCY: Office of the Secretary of Defense.

ACTION: Notice to alter a system of records.

SUMMARY: The Office of the Secretary of Defense proposes to alter a system of records in its inventory of record systems subject to the Privacy Act of 1974 (5 U.S.C. 552a), as amended.

DATES: This proposed action would be effective without further notice on February 2, 2011 unless comments are received which result in a contrary determination.

ADDRESSES: You may submit comments, identified by docket number and/Regulatory Information Number (RIN) and title, by any of the following methods:

• Federal Rulemaking Portal: http://www.regulations.gov. Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Chief, OSD/JS Privacy Office, Freedom of Information Directorate, Washington Headquarters Services, 1155 Defense Pentagon, Washington, DC 20301-1155, Ms. Cindy Allard at (703) 588-6830.

SUPPLEMENTARY INFORMATION: The Office of the Secretary of Defense notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on December 17, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 21, 2010.
Morgan F. Park,
Alternate OSD Federal Register Liaison Officer, Department of Defense.

A0601-222 USMEPCOM

System name:

Armed Services Military Accession Testing (November 18, 2003, 68 FR 65045).

Changes:

Delete entry and replace with “DMDC 15 DoD”

System location:

Delete entry and replace with “U.S. Military Entrance Processing Command (MEPCOM), 2834 Green Bay Road, North Chicago, IL 60064-3094.

Defense Manpower Data Center, DoD Center Monterey Bay, 400 Gigling Road, Seaside, CA 93955-6771.”

* * * * *

Categories of records in the system:

Delete entry and replace with “Individual's name, Social Security Number (SSN), address, telephone number, date of birth, sex, ethnic group identification, educational grade, rank, booklet number of ASVAB test, individual's plans after graduation, and individual item responses to ASVAB subtests, test dates and test scores.”

Authority for maintenance of the system:

Delete entry and replace with “10 U.S.C 136, Under Secretary of Defense for Personnel & Readiness; DoD Instruction 1304.12E, DoD Military Personnel Accession Testing Programs; Army Regulation 601-222, OPNAVINST 1100.5, Marine Corps Pamphlet 1130.52E, Air Force Joint Instruction 36-2016, and Coast Guard Command Instruction M 1130.24A, Armed Services Military Personnel Accession Testing Programs; and E.O. 9397 (SSN), as amended.”

Purpose(s):

Delete entry and replace with “To establish eligibility for enlistment; verify enlistment and placement scores; verify retest eligibility; and provide aptitude test scores as an element of career guidance to participants in the DoD Student Testing Program. The data is also used for research, marketing evaluation, assessment of manpower trends and characteristics; and related statistical studies and reports. The data is used on a continuing basis for the purpose of regeneration of scores and reclassification, and score quality evaluation. Records are also used as a management tool for statistical analysis, tracking, reporting, evaluating program effectiveness and conducting research.”

Routine uses of records maintained in the system, including categories of users and the purposes of such uses:

Delete entry and replace with “In addition to those disclosures generally permitted under 5 U.S.C. 552a(b) of the Privacy Act of 1974, these records may specifically be disclosed outside the DoD as a routine use pursuant to 5 U.S.C. 552a(b)(3) as follows:

The DoD `Blanket Routine Uses' set forth at the beginning of the Office of the Secretary of Defense compilation of systems of records notices apply to this system.”

Policies and practices for storing, retrieving, accessing, retaining, and disposing of records in the system:

Storage:

Delete entry and replace with “Electronic storage media.”

* * * * *

Retention and disposal:

Delete entry and replace with “MEPCOM—

Test scores transmittals and qualification test answer records are maintained for one year then destroyed.

DMDC—

Disposition pending (until the National Archives and Records Administration has approved the disposition, treat records as permanent).”

System manager(s) and address:

Delete entry and replace with “Deputy Director, Defense Manpower Data Center, DoD Center Monterey Bay, 400 Gigling Road, Seaside, CA 93955-6771.”

Notification procedure:

Delete entry and replace with “Individuals seeking to determine whether information about them is contained in this system should address written inquiries to the Director, Defense Manpower Data Center, 1600 Wilson Blvd., Suite 400, Arlington, VA 22209-2593; or Deputy Director, Defense Manpower Data Center, DoD Center Monterey Bay, 400 Gigling Road, Seaside, CA 93955-6771.

Individual should provide his/her full name, Social Security Number (SSN), date tested, and signature.”

Record access procedures:

Delete entry and replace with “Individuals seeking access to information about them contained in this system should address written inquiries to the Office of the Secretary of Defense/Joint Staff Freedom of Information Act Requester Service Center, 1155 Defense Pentagon, Washington, DC 20301-1155.

Individual should provide the name and number of this system of record notice, his/her full name, Social Security Number (SSN), date tested, and signature.”

Contesting record procedures:

Delete entry and replace with “The Office of the Secretary of Defense rules for accessing records, for contesting contents and appealing initial agency determinations are published in Office of the Secretary of Defense Administrative Instruction 81; 32 CFR part 311; or may be obtained from the system manager.”

Record source categories:

Delete entry and replace with “The individual and ASVAB tests.”

Exemptions claimed for the system:

Delete entry and replace with “Testing or examination material used solely to determine individual qualifications for appointment or promotion in the Federal service may be exempt pursuant to 5 U.S.C. 552a(k)(6), if the disclosure would compromise the objectivity or fairness of the test or examination process.

An exemption rule for this system has been promulgated in accordance with requirements of 5 U.S.C. 553(b)(1), (2), and (3), (c), and (e) and published in 32 CFR part 311. For additional information contact the system manager.”

* * * * *

DMDC 15 DoD

System name:

Armed Services Military Accession Testing.

System location:

U.S. Military Entrance Processing Command (MEPCOM), 2834 Green Bay Road, North Chicago, IL 60064-3094.

Defense Manpower Data Center, DoD Center Monterey Bay, 400 Gigling Road, Seaside, CA 93955-6771.

Categories of Individuals Covered:

Individuals who have been administered a version of the Armed Services Vocational Aptitude Battery (ASVAB), to include those who subsequently enlisted and those who did not. This applies to high school, college, National Civilian Community Corps, and vocational students who have participated in the DoD Student Testing Program (STP), as well as civilian applicants to the military services and active duty Service members.

Categories of records in the system:

Individual's name, Social Security Number (SSN), address, telephone number, date of birth, sex, ethnic group identification, educational grade, rank, booklet number of ASVAB test, individual's plans after graduation, and individual item responses to ASVAB subtests, test dates and test scores.

Authority for maintenance of the system:

10 U.S.C. 136, Under Secretary of Defense for Personnel & Readiness; DoD Instruction 1304.12E, DoD Military Personnel Accession Testing Programs; Army Regulation 601-222, OPNAVINST 1100.5, Marine Corps Pamphlet 1130.52E, Air Force Joint Instruction 36-2016, and Coast Guard Command Instruction M 1130.24A, Services Military Personnel Accession Testing Programs; and E.O. 9397 (SSN), as amended.

Purpose(s):

To establish eligibility for enlistment; verify enlistment and placement scores; verify retest eligibility; and provide aptitude test scores as an element of career guidance to participants in the DoD Student Testing Program. The data is also used for research, marketing evaluation, assessment of manpower trends and characteristics; and related statistical studies and reports. The data is used on a continuing basis for the purpose of regeneration of scores and reclassification, and score quality evaluation. Records are also used as a management tool for statistical analysis, tracking, reporting, evaluating program effectiveness and conducting research.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD `Blanket Routine Uses' set forth at the beginning of the Office of the Secretary of Defense compilation of systems of records notices apply to this system.

Policies and practices for storing, retrieving, accessing, retaining, and disposing of records in the system:

Storage:

Electronic storage media.

Retrievability:

By individual's name and Social Security Number (SSN).

Safeguards:

Access to records is restricted to authorized personnel having an official need-to-know. Automated data systems are protected by user identification and manual controls.

Retention and disposal:

MEPCOM—

Test scores transmittals and qualification test answer records are maintained for one year then destroyed.

DMDC—

Disposition pending (until the National Archives and Records Administration has approved the disposition, treat records as permanent).

System manager(s) and address:

Deputy Director, Defense Manpower Data Center, DoD Center Monterey Bay, 400 Gigling Road, Seaside, CA 93955-6771.

Notification procedure:

Individuals seeking to determine whether information about themselves is contained in this system should address written inquiries to the Director, Defense Manpower Data Center, 1600 Wilson Blvd., Suite 400, Arlington VA 22209-2593; or Deputy Director, Defense Manpower Data Center, DoD Center Monterey Bay, 400 Gigling Road, Seaside, CA 93955-6771.

Individual should provide his/her full name, Social Security Number (SSN), date tested, and signature.

Record access procedures:

Individuals seeking access to information about them contained in this system should address written inquiries to the Office of the Secretary of Defense/Joint Staff Freedom of Information Act Requester Service Center, 1155 Defense Pentagon, Washington, DC 20301-1155.

Individual should provide the name and number of this system of record notice; his/her full name, Social Security Number (SSN), date tested, and signature.

Contesting record procedures:

The Office of the Secretary of Defense rules for accessing records, for contesting contents and appealing initial agency determinations are published in Office of the Secretary of Defense Administrative Instruction 81; 32 CFR part 311; or may be obtained from the system manager.

Record source categories:

The individual and ASVAB tests.

Exemptions claimed for the system:

Testing or examination material used solely to determine individual qualifications for appointment or promotion in the Federal service may be exempt pursuant to 5 U.S.C. 552a(k)(6), if the disclosure would compromise the objectivity or fairness of the test or examination process.

An exemption rule for this system has been promulgated in accordance with requirements of 5 U.S.C. 553(b)(1), (2), and (3), (c), and (e) and published in 32 CFR part 311. For additional information contact the system manager.

[FR Doc. 2010-33031 Filed 12-30-10; 8:45 am]

BILLING CODE 5001-06-P